NUCLEAR REGULATORY COMMISSION

[Docket No. 50-333]

Entergy Nuclear Operations, Inc.; Notice of Receipt and Availability of Application for Renewal of James A. FitzPatrick Nuclear Power Plant (Facility Operating License No. Dpr-59) for an Additional 20-Year Period

The U.S. Nuclear Regulatory Commission (NRC or Commission) has received an application, dated July 31, 2006, from Entergy Nuclear Operations, Inc., filed pursuant to Section 104(b) (Operating License No. DPR-59) of the Atomic Energy Act of 1954, as amended, and Title 10 of the Code of Federal Regulations Part 54 (10 CFR Part 54), to renew the operating license for the James A. FitzPatrick Nuclear Power Plant. Renewal of the license would authorize the applicant to operate the facility for an additional 20-year period beyond the period specified in the current operating license. The current operating license for the James A. FitzPatrick Nuclear Power Plant (DPR-59) expires on October 17, 2014. The James A. FitzPatrick Nuclear Power Plant is a boiling-water reactor designed by General Electric. The unit is located near the town of Lycoming, New York. The acceptability of the tendered application for docketing, and other matters including an opportunity to request a hearing, will be the subject of subsequent Federal Register notices.

Copies of the application are available for public inspection at the Commission's Public Document Room (PDR), located at One White Flint North, 11555 Rockville Pike (first floor), Rockville, Maryland, 20582 or electronically from the NRC's Agencywide Documents Access and Management System (ADAMS) Public Electronic Reading Room under Accession Number ML062160486. The ADAMS Public Electronic Reading Room is accessible from the NRC Web site at http://www.nrc.gov/reading-rm/adams.html. In addition, the application is available on the NRC Web page at http://www.nrc.gov/reactors/operating/licensing/renewal/application.html. while the application is under review. Persons who do not have access to ADAMS or who encounter problems in accessing the documents located in ADAMS should contact the NRC's PDR Reference staff at 1-800-397-4209, extension 301-415-4737, or by e-mail to pdr@nrc.gov.

A copy of the license renewal application for the James A. FitzPatrick Nuclear Power Plant, is also available to local residents near the James A. FitzPatrick Nuclear Power Plant at the Penfield Library (Selective Depository), Reference and Documents Department, State University of New York, Oswego, New York 13126.

Dated at Rockville, Maryland, this 7th day of August 2006.
For the Nuclear Regulatory Commission.
Pao-Tsin Kuo,
Deputy Director, Division of License Renewal, Office of Nuclear Reactor Regulation.

[FR Doc. E6-13124 Filed 8-10-06; 8:45 am]

BILLING CODE 7590-01-P